DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Fishermen's Contingency Fund.

OMB Control Number: 0648-0082.

Form Number(s): NOAA 88-164, 88-166.

Type of Request: Regular submission.

Burden Hours: 1,008.

Number of Respondents: 100.

Average Hours per Response: Applications, 10 hours; 15-day reports, 5 minutes.

Needs and Uses: The Fishermen's Contingency Fund compensates U.S. commercial fishermen for loss of or damage to their fishing vessels or fishing gear, plus 50% of resulting economic loss, caused by oil and gas industry activities on the U.S. Outer Continental Shelf. In order to be compensated, fishermen must file a report and an application to NOAA.

Affected Public: Business or other for-profit organizations.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 20, 2008.
Gwellnar Banks,
Management Analyst, Office of the Chief Information Officer.

[FR Doc. E8-11596 Filed 5-22-08; 8:45 am]

BILLING CODE 3510-22-P